DEPARTMENT OF DEFENSE

Department of the Army

Notice of Intent To Grant Exclusive License of the United States Patent No. 7,837,654 B2, Issued November 23, 2010 Entitled: Precision Sensing and Treatment Delivery Device for Promoting Healing in Living Tissue

AGENCY: Department of the Army, DoD.

ACTION: Notice of intent.

SUMMARY: In accordance with 37 CFR 404.7(a)(1)(i), announcement is made of a prospective exclusive license of the following U.S. Patent #7,837,654 B2, issued November 23, 2010, to OPTS, Inc., a Huntsville, Alabama company.

DATES: Written objections must be filed not later than 15 days following publication of this announcement.

ADDRESSES: United States Army Aviation & Missile Research Development & Engineering Center, Attn: RDMR-CST (Dr. J.R. Alexander), 5400 Fowler Road, Redstone Arsenal, Alabama 35898-5000.

FOR FURTHER INFORMATION CONTACT: Dr. Russ Alexander, Chief, Office of Research and Technology Applications, (256) 876-8743, email: russ.alexander@us.army.mil

SUPPLEMENTARY INFORMATION: This patent abstract claims a microneedle insertable in a target cell tissue, including a manipulative end maintained exterior of cell tissue and an insertion end positionable in or adjacent of target cell tissue. A plurality of microtubes are bundled to pass through the needle body and extend to respective distal ends grouped proximally interior of the insertion end. A sensing fiber is extendable from means for sensing for passage through the needle body to a distal end capable of sensing cell tissue parameters. The insertion end and the bundled microtube and sensing fiber distal ends are positionable in or adjacent of cell tissue thereby providing rapid evaluation of cell parameters by optic fiber sensing, fiber sampling of cell parameters, and precise delivery of therapeutic fluids or additional treatment measures. A method is also disclosed of precisely positioning a microneedle having a plurality of microtubes and sensing fibers therein for evaluating and treating cell tissue.

Brenda S. Bowen,
Army Federal Register Liaison Officer.

[FR Doc. 2012-20354 Filed 8-17-12; 8:45 am]

BILLING CODE 3710-08-P